NUCLEAR REGULATORY COMMISSION

[NRC-2011-0216]

Biweekly Notice; Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from August 25, 2011 to September 7, 2011. The last biweekly notice was published on September 6, 2011 (76 FR 55125).

ADDRESSES: Please include Docket ID NRC-2011-0216 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

• Federal Rulemaking Web Site: Go to http://www.regulations.gov and search for documents filed under Docket ID NRC-2011-0216. Address questions about NRC dockets to Carol Gallagher 301-492-3668; e-mail Carol.Gallagher@nrc.gov.

• Mail comments to: Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are accessible electronically through ADAMS in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this notice can be found at http://www.regulations.gov by searching on Docket ID: NRC-2011-0216.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's ”Rules of Practice for Domestic Licensing Proceedings” in 10 CFR part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by e-mail at hearing.docket@nrc.gov, or by telephone at 301-415-1677, to request (1) A digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by e-mail to pdr.resource@nrc.gov.

FirstEnergy Nuclear Operating Company, et al., Docket No. 50-346, Davis-Besse Nuclear Power Station, Unit 1, Ottawa County, Ohio

Date of amendment request: May 20, 2011.

Description of amendment request: The proposed amendment would modify the Davis-Besse Nuclear Power Station, Unit No. 1 (DBNPS) Technical Specifications (TS) 5.5.8, “Steam Generator (SG) Program,” to modify the special visual inspection frequency requirements. Specifically, TS 5.5.8.g requires visual inspection of the secured internal auxiliary feedwater header, header to shroud attached welds, and external header thermal sleeves. The proposed amendment would replace the time-based frequency requirement with a condition-based inspection requirement.

Basis for proposed no significant hazards consideration determination: As required by 10 CFR 50.91(a), the licensee has provided its analysis of the issue of no significant hazards consideration, which is presented below:

1. Does the proposed amendment involve a significant increase in the probability or consequences of an accident previously evaluated?

Response: No.

This amendment request modifies the frequency requirements for performing visual inspections of the secured internal auxiliary feedwater (AFWH), the header to shroud attachments welds, and the external header thermal sleeves. Previous AFWH repairs adhered to applicable code requirements, and steam generator modifications to install an external AFWH were implemented using an approved design change process. The steam generator's safety-related and seismic design requirements did not change. The auxiliary feedwater system's safety-related, seismic and accident mitigation requirements did not change.

Historically acceptable TS 5.5.8.g visual inspection results for both steam generators indicate no degradation of the internal AFWH and its attachment welds, or of the external header thermal sleeves. Historically acceptable TS 5.5.8.d.5 eddy current inspections indicate no degradation of the steam generator peripheral tubes due to the internal AFWH. The acceptable eddy current inspections were last completed on both steam generators during the 2010 refueling outage, and will continue to be performed until the steam generators are replaced. For steam generator 1-B, the last TS 5.5.8.g special visual inspection was completed during the 2010 refueling outage, and no other required TS 5.5.8.g special visual inspections remain before the steam generator's scheduled replacement in 2014. For steam generator 2-A, the last TS 5.5.8.g special visual inspection was performed during the 1998 refueling outage, and only one TS 5.5.8.g special visual inspection remains before the end of the current inservice inspection interval (September 20, 2012).

The visual inspection trend indicates that degradation of the secured internal AFWH and its attachment welds is not expected to be identified, should the required TS 5.5.8.g inspection of the steam generator 2-A be performed in 2012, and that is degradation is not expected to occur during the remaining planned service life of both steam generators before their scheduled replacements in 2014.

The eddy current inspection trend indicates that the steam generator tubes, a part of the reactor coolant system, remain unaffected by the internal AFWHs. Significant changes in the gap between the steam generator peripheral tubes and the secured AFWHs is not expected to be indentified when the next TS 5.5.8.d.5 eddy current inspections of steam generators 1-B and 2-A are performed in 2012, and that significant gap degradation is not expected to occur during the remaining planned service life of both steam generators before their scheduled replacements in 2014.

Should significant damage to a steam generator peripheral tube occur due to direct contact with the internal AFWH, the postulated occurrence would be bounded by the existing Updated Safety Analysis Report (USAR) Chapter 15, Section 15.4.2, for the steam generator tube rupture accident analysis.

Modifying the TS 5.5.8.g inspection frequency requirement will not significantly increase the probability of an accident previously evaluated because historically acceptable inspection results and trend indicate that degradation of the secured internal AFWHs is not expected to occur during the remaining service life of both steam generators.

Modifying the TS 5.5.8.g inspection frequency requirement will cause a change to any dose analyses associated with the USAR Chapter 15 accidents because accident mitigation functions and requirements remain unchanged.

Therefore, the proposed change does not involve a significant increase in the probability or consequence of an accident previously evaluated.

2. Does the proposed amendment create the possibility of new or different kind of accident from any accident previously evaluated?

Response: No.

This amendment request modifies the frequency requirements for performing visual inspections of the secured internal AFWH, the header to shroud attachment welds, and the external header thermal sleeves. This request does not change the design function of the reactor coolant system, the steam generators, the AFWS, or the way the systems and plant are operated and maintained.

Therefore, the proposed change does not create the possibility of new or different kind of accident from any accident previously evaluated.

3. Does the proposed amendment involve a significant reduction in a margin of safety?

Response: No.

This amendment request modifies the frequency requirements for performing visual inspections of the secured internal AFWH, the header to shroud attachment welds, and the external header thermal sleeves. Historically acceptable TS 5.5.8.g visual inspection results for both steam generators indicate no degradation of the internal AFWH and its attachment welds, or of the external header thermal sleeves. Historically acceptable TS 5.5.8.d.5 eddy current inspections indicate no degradation of the steam generator [special interest group] peripheral tubes due to the internal AFWH.

The visual and eddy current inspection trends indicate that degradation of the AFWH, or significant changes in the gap between the steam generator peripheral tubes and the secured AFWHs, is not expected to occur during the remaining service life of both steam generators.

The request does not involve or affect the fuel cladding or the containment. The steam generators tubes, a part of the reactor coolant system, remain unaffected based on the historically acceptable 5.5.8.d.5 eddy current inspection results and trend. This request does not involve a physical change to the plant, methods, of plant operation, or maintenance of equipment important to safety.

Therefore, the proposed change does not involve a significant reduction in a margin of safety.

Based on the above, FENOC concludes that the proposed amendment does not involve a significant consideration under the standards set forth in 10 CFR 50.92(c), and, accordingly, finding of “no significant hazards consideration” is justified.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Jacob I. Zimmerman.

Tennessee Valley Authority, Docket No. 50-390, Watts Bar Nuclear Plant (WBN), Unit 1, Rhea County, Tennessee

Date of amendment request: August 10, 2011.

Description of amendment request: The proposed amendment request would revise Technical Specification (TS) 3.8.1 “AC [Alternating Current] Sources—Operating.” It would modify Surveillance Requirement (SR) Notes associated with SR 3.8.1, SR 3.8.1.9, SR 3.8.1.10, SR 3.8.1.11, SR 3.8.1.13, SR 3.8.1.16, SR 3.8.1.18, and SR 3.8.1.19. The proposed amendment request would change the Unit 1 TS 3.8.1 to permit performance of the Unit 2 integrated safeguards test without requiring Unit 1 to be shut down.

Basis for proposed no significant hazards consideration determination: As required by 10 CFR 50.91(a), the licensee has provided its analysis of the issue of no significant hazards consideration, which is presented below:

1. Does the proposed amendment involve a significant increase in the probability or consequences of an accident previously evaluated?

Response: No

The proposed changes do not require physical changes to plant systems, structures, or components. The DGs [diesel generators] and their associated emergency loads are accident mitigating features. As such, testing of the DGs is not associated with a potential accident-initiating mechanism. Therefore, the changes do not affect accident or transient initiation or consequences.

The probability or consequences of previously evaluated accidents will not be significantly affected by the revised Surveillance Notes, because a sufficient number of onsite AC power sources will continue to remain available to perform the accident mitigation functions associated with the DGs, as assumed in the accident analyses.

Therefore, the proposed changes do not involve a significant increase in the probability or consequences of an accident previously evaluated.

2. Does the proposed amendment create the possibility of a new or different kind of accident from any accident previously evaluated?

Response: No.

The proposed changes would not require any new or different accidents to be postulated, since no changes are being made to the plant that would introduce any new accident causal mechanisms. This license amendment request does not impact any plant systems that are potential accident initiators; nor does it have any significantly adverse impact on any accident mitigating systems.

Therefore, the proposed changes do not create the possibility of a new or different kind of accident from any accident previously evaluated.

3. Does the proposed amendment involve a significant reduction in a margin of safety?

Response: No.

The proposed changes do not alter the permanent plant design, including instrument set points, nor does it change the assumptions contained in the safety analyses. The DG alternate AC system and other required safety systems are designed with sufficient redundancy such that a DG from the non-operating unit may have surveillance and testing performed while the affected unit is operating. The proposed changes do not impact the redundancy or availability requirements of offsite power supplies or change the ability of the plant to cope with station blackout events.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Stephen J. Campbell.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through ADAMS in the NRC Library at http://www.nrc.gov/reading-rm/adams.html. If you do not have access to ADAMS or if there are problems in accessing the documents located in ADAMS, contact the PDR Reference staff at 1-800-397-4209, 301-415-4737 or by e-mail to pdr.resource@nrc.gov.

Arizona Public Service Company, et al., Docket Nos. STN 50-528, STN 50-529, and STN 50-530, Palo Verde Nuclear Generating Station, Unit 1, 2, and 3, Maricopa County, Arizona

Date of application for amendment: August 27, 2010, as supplemented by letters dated February 11 and May 25, 2011.

Brief description of amendment: The amendments revised the feedwater line break with loss of offsite power and single failure (FWLB/LOP/SF) event analysis reported in Chapter 15, Section 15.2.8 of the Palo Verde Nuclear Generating Station Updated Final Safety Analysis Report. The revisions to the FWLB/LOP/SF analysis reduced (1) The time assumed for the commencement of operator action from 30 minutes to 20 minutes, and (2) the rate of reactor coolant pump bleed-off to the reactor drain tank from 3 gallons per minute to zero.

Date of issuance: August 31, 2011.

Effective date: As of the date of issuance and shall be implemented within 90 days from the date of issuance.

Amendment No.: Unit 1-187; Unit 2-187; Unit 3-187.

Facility Operating License Nos. NPF-41, NPF-51, and NPF-74: The amendment revised the Operating Licenses.

Date of initial notice in Federal Register: October 19, 2010 (75 FR 64361), and June 28, 2011 (76 FR 37853). The supplemental letters dated February 11 and May 25, 2011, provided additional information that clarified the application, did not expand the scope of the application as originally noticed, and did not change the staff's original proposed no significant hazards consideration determination as published in the Federal Register.

The Commission's related evaluation of the amendments is contained in a Safety Evaluation dated August 31, 2011.

No significant hazards consideration comments received: No.

Carolina Power & Light Company, Docket Nos. 50-325 and 50-324, Brunswick Steam Electric Plant, Units 1 and 2, Brunswick County, North Carolina

Date of application for amendments: September 23, 2010.

Brief description of amendments: The license amendments revised Brunswick Steam and Electric Plant (BSEP), Units 1 and 2 Technical Specification (TS) 5.3.1, “Facility Staff Qualifications.” The amendments added an exception to ANSI N18.1, “Selection and Training of Nuclear Power Plant Personnel,” for the operations manager (OM) qualification. The amendments changed the TS requirement specific to the OM holding a senior reactor operator (SRO) license. The revised BSEP, Units 1 and 2 TS 5.3.1 refer to TS 5.2.2.f, that states “The operations manager or assistant operations manager shall hold an SRO license.” All other requirements for the OM, specified in ANSI N18.1-1971, such as a minimum of 8 years of responsible power plant experience, would be retained.

Date of issuance: August 25, 2011.

Effective date: Date of issuance, shall be implemented within 60 days of the effective date.

Amendment Nos.: Unit 1-259 and Unit 2-287.

Facility Operating License Nos. DPR-71 and DPR-62: Amendments revised the technical specifications.

Date of initial notice in Federal Register: February 8, 2011 (76 FR 6833).

The Commission's related evaluation of the amendments is contained in a safety evaluation dated August 25, 2011.

No significant hazards consideration comments received: No.

Detroit Edison Company, Docket No. 50-341, Fermi 2, Monroe County, Michigan

Date of application for amendment: April 8, 2011.

Brief description of amendment: The amendment revises Fermi 2 Technical Specification (TS) to define a new time limit for restoring inoperable Reactor Coolant System (RCS) leakage detection instrumentation to operable status; establish alternate methods of monitoring RCS leakage when one or more required monitors are inoperable; and make TS Bases changes which reflect the proposed changes and more accurately reflect the contents of the facility design basis related to operability of the RCS leakage detection instrumentation. The request is submitted consistent with the guidance contained in NRC-approved Technical Specifications Task Force traveler 514 (TSTF-514). This technical specification improvement was made available by the NRC on December 17, 2010 (75 FR 79048), as part of the consolidated line item improvement process.

Date of issuance: August 26, 2011.

Effective date: As of the date of issuance and shall be implemented within 60 days.

Amendment No.: 186.

Facility Operating License No. NPF-43: Amendment revised the Technical Specifications and License.

Date of initial notice in Federal Register: May 31, 2011 (76 FR 31372).

The Commission's related evaluation of the amendment is contained in a Safety Evaluation dated August 26, 2011.

No significant hazards consideration comments received: No.

Duke Energy Carolinas, LLC, et al., Docket Nos. 50-413 and 50-414, Catawba Nuclear Station, Units 1 and 2 (Catawba 1 and 2), York County, South Carolina

Duke Energy Carolinas, LLC, Docket Nos. 50-369 and 50-370, McGuire Nuclear Station, Units 1 and 2 (McGuire 1 and 2), Mecklenburg County, North Carolina

Duke Energy Carolinas, LLC, Docket Nos. 50-269, 50-270, and 50-287, Oconee Nuclear Station, Units 1, 2, and 3 (Oconee 1, 2, and 3), Oconee County, South Carolina

Date of application for amendments: August 16, 2010, as supplemented by letters dated September 27, 2010, March 7, 2011, April 15, 2011, and August 9, 2011.

Brief description of amendments: The amendments approved the Cyber Security Plan (CSP) and associated implementation schedule, and revised the licenses of Renewed Facility Operating License Nos. NPF-35 and NPF-52 for Catawba 1 and 2, Renewed Facility Operating License Nos. NPF-9 and NPF-17 for McGuire 1 and 2, and Renewed Facility Operating License Nos. DPR-38, DPR-47, and DPR-55, for Oconee 1, 2, and 3, respectively, to provide a license condition to require the licensee to fully implement and maintain in effect all provisions of the NRC-approved CSP. The proposed change is consistent with Nuclear Energy Institute (NEI) 08-09, Revision 6, “Cyber Security Plan for Nuclear Power Reactors.”

Date of issuance: August 31, 2011.

Effective date: The license amendments are effective as of the date of their issuance. The implementation of the CSP, including the key intermediate milestone dates and the full implementation date, shall be in accordance with the implementation schedule submitted by the licensee on August 16, 2010, as supplemented by letters dated September 27, 2010, March 7, 2011, April 15, 2011, and August 9, 2011, and approved by the NRC staff with these license amendments. All subsequent changes to the NRC-approved CSP implementation schedule will require prior NRC approval pursuant to 10 CFR 50.90.

Amendment Nos.: 266/262 (Catawba); 264/244 (McGuire); 378/380/379 (Oconee).

Renewed Facility Operating License Nos. NPF-35, NPF-52, NPF-9, NPF-17, DPR-38, DPR-47, and DPR-55: Amendments revised the licenses.

Date of initial notice in Federal Register: July 7, 2011 (76 FR 39913). The supplements dated September 27, 2010, March 7, 2011, April 15, 2011, and August 9, 2011, provided additional information that clarified the application, did not expand the scope of the application as originally noticed, and did not change the staff's original proposed no significant hazards consideration determination.

The Commission's related evaluation of the amendments is contained in a Safety Evaluation dated August 31, 2011.

No significant hazards consideration comments received: No.

Entergy Nuclear Vermont Yankee, LLC and Entergy Nuclear Operations, Inc., Docket No. 50-271, Vermont Yankee Nuclear Power Station, Vernon, Vermont

Date of amendment request: November 8, 2010.

Description of amendment request: The amendment would revise Technical Specifications (TS) to eliminate provisions allowing the high-pressure coolant injection (HPCI) system and the reactor core isolation cooling (RCIC) system to be aligned to the suppression pool when required instrument channels are inoperable. In this configuration, the HPCI and RCIC systems would not be capable of mitigating some plant events. Also, an administrative change to the TS Table of Contents is proposed.

Date of Issuance: August 25, 2011.

Effective date: As of the date of issuance, and shall be implemented within 60 days.

Amendment No.: 248.

Facility Operating License No. DPR-28: Amendment revised the License and Technical Specifications.

Date of initial notice in Federal Register: January 11, 2011 (76 FR 1647).

The Commission's related evaluation of this amendment is contained in a Safety Evaluation dated August 25, 2011.

No significant hazards consideration comments received: No.

FirstEnergy Nuclear Operating Company (FENOC), et al., Docket No. 50-440, Perry Nuclear Power Plant, Unit 1 (PNPP), Lake County, Ohio

Date of amendment request: July 16, 2010, as supplemented by letters dated September 20, 2010, November 29, 2010, February 15, 2011, and April 8, 2011.

Brief description of amendment request: This amendment was submitted in accordance with the provisions of Title 10 of the Code of Federal Regulations (10 CFR), 50.4 and 50.90, and requested NRC approval of the PNPP CSP, the associated Implementation Schedule, and the addition of a sentence to the existing Physical Protection license condition in PNPP's Facility Operating License (FOL) to require FENOC to fully implement and maintain in effect all provisions of the NRC-approved CSP.

Date of issuance: August 29, 2011.

Effective date: This license amendment is effective as of the date of its issuance. The implementation of the CSP, including the key intermediate milestone dates and the full implementation date, shall be in accordance with the implementation schedule submitted by the licensee on April 8, 2011, and approved by the NRC staff with this license amendment. All subsequent changes to the NRC-approved CSP implementation schedule will require prior NRC approval pursuant to 10 CFR 50.90.

Amendment No.: 158.

Facility Operating License No. NPF-58: The amendment revised PNPP's FOL.

Date of initial notice in Federal Register: November 9, 2010 (75 FR 68834). The supplemental letters dated September 29, 2010, November 29, 2010, February 15, 2011, and April 8, 2011, provided additional information that clarified the application, did not expand the scope of the application as originally noticed, and did not change the Nuclear Regulatory Commission staff's original proposed finding of no significant hazards consideration determination published in the Federal Register.

The Commission's related evaluation of the amendment is contained in a Safety Evaluation dated August 29, 2011.

No significant hazards consideration comments received: No.

FirstEnergy Nuclear Operating Company (FENOC), et al., Docket No. 50-346, Davis-Besse Nuclear Power Station, Unit 1 (DBNPS), Ottawa County, Ohio

Date of amendment request: July 16, 2010, as supplemented by letters dated September 28, 2010, November 23, 2010, February 1, 2011, and April 8, 2011.

Brief description of amendment request: This amendment was submitted in accordance with the provisions of 10 CFR 50.4 and 10 CFR 50.90 and requests NRC approval of the DBNPS CSP, the associated Implementation Schedule, and the addition of a sentence to the existing Physical Protection license condition in DBNP's Facility Operating License (FOL) to require FENOC to fully implement and maintain in effect all provisions of the NRC-approved DBNPS CSP.

Date of issuance: August 31, 2011.

Effective date: This license amendment is effective as of the date of its issuance. The implementation of the CSP, including the key intermediate milestone dates and the full implementation date, shall be in accordance with the implementation schedule submitted by the licensee on April 8, 2011, and approved by the NRC staff with this license amendment. All subsequent changes to the NRC-approved CSP implementation schedule will require prior NRC approval pursuant to 10 CFR 50.90.

Amendment No.: 283.

Facility Operating License No. NPF-3: The amendment revised DBNPS's FOL.

Date of initial notice in Federal Register: February 1, 2011 (76 FR 5621) The supplemental letters dated September 28, 2010, November 23, 2010, February 1, 2011, and April 8, 2011, provided additional information that clarified the application, did not expand the scope of the application as originally noticed, and did not change the NRC staff's original proposed finding of no significant hazards consideration determination published in the Federal Register.

The Commission's related evaluation of the amendment is contained in a Safety Evaluation dated August 31, 2011.

No significant hazards consideration comments received: No.

Florida Power and Light Company, et al., Docket Nos. 50-335 and 50-389, St. Lucie Plant, Unit 1 and 2, St. Lucie County, Florida

Date of application for amendments: August 2, 2010, as supplemented by letters dated September 27 and November 17, 2010, and April 8 and June 22, 2011.

Brief description of amendments: Amendments modify paragraph 3.F, “Physical Protection,” of the licenses of both units. The changes incorporate a requirement to fully implement and maintain in effect all provisions of the Commission-approved CSP.

Date of Issuance: August 31, 2011.

Effective Date: These license amendments are effective as of the date of their issuance. The implementation of the CSP, including the key intermediate milestone dates and the full implementation date, shall be in accordance with the implementation schedule submitted by the licensee on April 8, 2011, and approved by the NRC staff with these license amendments. All subsequent changes to the NRC-approved CSP implementation schedule will require prior NRC approval pursuant to 10 CFR 50.90.

Amendment Nos.: Unit 1-211 and Unit 2-160.

Renewed Facility Operating License Nos. DPR-67 and NPF-16: Amendments revised the license.

Date of initial notice in Federal Register: October 12, 2010 (75 FR 62600). The supplements dated September 27 and November 17, 2010, and April 8 and June 22, 2011, provided additional information that clarified the application, did not expand the scope of the application as originally noticed, and did not change the staff's original proposed no significant hazards consideration determination as published in the Federal Register.

The Commission's related evaluation of the amendments is contained in a Safety Evaluation dated August 31, 2011.

No significant hazards consideration comments received: No.

Indiana Michigan Power Company, Docket No. 50-315, Donald C. Cook Nuclear Plant, Unit 1, Berrien County, Michigan

Date of application for amendment: December 16, 2010.

Brief description of amendment: The amendment revised Technical Specification (TS) 4.2.1, adding Optimized ZIRLO™ fuel rods to the fuel matrix in addition to Zircaloy or ZIRLO™ fuel rods that are currently in use. The amendment also add a Westinghouse topical report regarding Optimized ZIRLO™ as Reference 8 in TS 5.6.5.b, which lists the analytical methods used to determine the core operating limits.

Date of issuance: August 25, 2011.

Effective date: As of the date of issuance and shall be implemented within 60 days from the date of issuance.

Amendment No.: 316.

Facility Operating License No. DPR-58: Amendment revised the Renewed Operating License and Technical Specifications.

Date of initial notice in Federal Register: February 22, 2011 (76 FR 9826).

The Commission's related evaluation of the amendment is contained in a Safety Evaluation dated August 25, 2011.

No significant hazards consideration comments received: No.

Omaha Public Power District, Docket No. 50-285, Fort Calhoun Station, Unit 1, Washington County, Nebraska

Date of amendment request: July 13, 2010, as supplemented by letters dated February 4 and August 19, 2011.

Brief description of amendment: The amendment revised language in Technical Specification (TS) 2.10.2, “Reactivity Control Systems and Core Physics Parameters Limits,” and revised table items related to TS 2.15, “Instrumentation and Control Systems,” which pertain to operability of the primary and secondary control element assembly (CEA) position indication system (CEAPIS) channels. A new surveillance requirement was added to TS 3.1, “Instrumentation and Control,” to verify the position of the CEAs each shift. The surveillance requirement for TS 3.1, Table 3-3, Item 1.a was modified to specify performance of a CHANNEL CHECK of the primary CEAPIS. By letter dated August 19, 2011, the licensee withdrew its proposed changes to Item 2.a of TS 3.1, Table 3-3 regarding the secondary CEAPIS.

Date of issuance: August 31, 2011.

Effective date: This license amendment is effective as of the date of its issuance and shall be implemented within 180 days from the date of issuance.

Amendment No.: 267.

Renewed Facility Operating License No. DPR-40: The amendment revised the operating license and Technical Specifications.

Date of initial notice in Federal Register: January 25, 2011 (76 FR 4387). The supplemental letters dated February 4 and August 19, 2011 provided additional information that clarified the application, did not expand the scope of the application as originally noticed, and did not change the staff's original proposed no significant hazards consideration determination as published in the Federal Register.

The Commission's related evaluation of the amendment is contained in a safety evaluation dated August 31, 2011.

No significant hazards consideration comments received: No.

PSEG Nuclear LLC, Docket Nos. 50-272 and 50-311, Salem Nuclear Generating Station, Unit 1 and 2, Salem County, New Jersey

Date of application for amendments: October 4, 2010, as supplemented by letters dated April 7, 2011, and May 23, 2011.

Brief description of amendments: The amendments modify the Technical Specification (TS) requirements for snubbers due to revisions to the inservice inspection program.

Date of issuance: August 25, 2011.

Effective date: As of the date of issuance, to be implemented within 60 days.

Amendment Nos.: 301 and 284.

Facility Operating License Nos.DPR-70 and DPR-75: The amendments revised the TSs and the Facility Operating Licenses.

Date of initial notice in Federal Register: December 28, 2010 (75 FR 81672). The letters dated April 7, 2011, and May 23, 2011, provided clarifying information that did not change the initial proposed no significant hazards consideration determination or expand the application beyond the scope of the original Federal Register notice.

The Commission's related evaluation of the amendments is contained in a Safety Evaluation dated August 25, 2011.

No significant hazards consideration comments received: No.

Tennessee Valley Authority, Docket No. 50-390, Watts Bar Nuclear Plant (WBN), Unit 1, Rhea County, Tennessee

Date of application for amendment: November 23, 2009, as supplemented December 18, 2009, July 23, 2010, October 1, 2010, April 7, 2011, June 10, 2011, and July 15, 2011.

Brief description of amendment: The amendment revised the Facility Operating License condition 2.E to add the CSP.

Date of issuance: August 30, 2011.

Effective date: As of the date of issuance, the implementation of the CSP, including the key intermediate milestone dates and the full implementation date, shall be in accordance with the implementation schedule submitted by the licensee on November 23, 2009, as supplemented by letters dated December 18, 2009, July 23, 2010, October 1, 2010, April 7, 2011, June 10, 2011, and July 15, 2011, and approved by the NRC staff with this license amendment. All subsequent changes to the NRC-approved CSP implementation schedule will require prior NRC approval pursuant to 10 CFR 50.90.

Amendment No.: 87.

Facility Operating License No. NPF-90: Amendment revised the License.

Date of initial notice in Federal Register: August 20, 2010 (75 FR 51495). TVA's supplements dated October 1, 2010, April 7, 2011, June 10, 2011, and July 15, 2011, provided additional information that clarified the application, did not expand the scope of the application as originally noticed proposed and did not change the staff's original proposed no significant hazards determination as published in the Federal Register.

The Commission's related evaluation of the amendment is contained in a Safety Evaluation dated August 30, 2011.

No significant hazards consideration comments received: No.

Tennessee Valley Authority, Docket No. 50-390, Watts Bar Nuclear Plant (WBN), Unit 1, Rhea County, Tennessee

Date of application for amendment: October 30, 2009, as supplemented May 24, 2011.

Brief description of amendment: The amendment revised License Condition 2.F regarding fire protection of the Operating License NPF-90.

Date of issuance: September 1, 2011.

Effective date: As of the date of issuance and shall be implemented no later than 30 days from date of issuance.

Amendment No.: 88.

Facility Operating License No. NPF-90: Amendment revised the License.

Date of initial notice in Federal Register: December 15, 2009 (74 FR 66385). TVA's supplement dated May 24, 2011, provided additional information that clarified the application, did not expand the scope of the application as originally noticed, and did not change the staff's original proposed no significant hazards determination as published in the Federal Register.

The Commission's related evaluation of the amendment is contained in a Safety Evaluation dated September 1, 2011.

No significant hazards consideration comments received: No.

Dated at Rockville, Maryland, this 8th day of September 2011.
For the Nuclear Regulatory Commission .
Joseph G. Giitter,
Director, Division of Operating Reactor Licensing, Office of Nuclear Reactor Regulation.

[FR Doc. 2011-23790 Filed 9-19-11; 8:45 am]

BILLING CODE 7590-01-P